DEPARTMENT OF AGRICULTURE

Submission for OMB Review; Comment Request

November 7, 2018.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by December 13, 2018. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Mink Survey.

OMB Control Number: 0535-0212.

Summary of Collection: The primary function of the National Agricultural Statistics Service (NASS) is to prepare and issue current official State and national estimates of crop and livestock production. The mink program consists of two surveys: An annual census of all known mink producers in the 50 states (the Mink Survey) and an annual survey of two prominent mink pelt auction houses (the Mink Price Survey). Statistics on mink production are published for the 12 major states that account for over 90 percent of the total U.S. pelt production. There is no other source for this type of information. General authority for these data collection activities is granted under U.S. Code Title 7, Section 2204.

Need and Use of the Information: NASS collects information on mink pelts produced by color, number of females bred to produce kits the following year, number of mink farms, average marketing price, and the value of pelts produced. The data is disseminated by NASS in the Mink Report and is used by the U.S. government and other groups.

Description of Respondents: Farms.

Number of Respondents: 352.

Frequency of Responses: Reporting: Annually.

Total Burden Hours: 87.

National Agricultural Statistics Service

Title: Cost of Pollination Survey.

OMB Control Number: 0535-0258.

Summary of Collection: The primary objectives of the National Agricultural Statistics Service (NASS) are to prepare and issue official State and national estimates of crop and livestock production, disposition and prices, economic statistics, and environmental statistics related to agriculture and to conduct the Census of Agriculture and its follow-on surveys. Pollinators (honeybees) are vital to the agricultural industry for producing food for the world's population. NASS' primary focus will center on costs associated with honey bee pollination, but will also collect some basic information relating to other forms of pollination. General authority for these data collection activities is granted under U.S.C. Title 7, Section 2204.

Need and Use of the Information: NASS plans to collect economic data under this new collection using the “Cost of Pollination Inquiry” survey. Data relating to the targeted crops (fruits, nuts, vegetables and specialty crops) will be collected for the total number of acres that rely on honey bee pollination, the number of honey bee colonies that were used on those acres, and any cash fees associated with honey bee pollination. By publishing both regional and crop specific pollination costs, both, crop farmers and beekeepers will be able to benefit from this additional data.

Description of Respondents: Farmers.

Number of Respondents: 18,000.

Frequency of Responses: Reporting: Once a year.

Total Burden Hours: 5,340.

Ruth Brown,
Departmental Information Collection Clearance Officer.

[FR Doc. 2018-24699 Filed 11-9-18; 8:45 am]

BILLING CODE 3410-20-P